DEPARTMENT OF TRANSPORTATION

Maritime Administration

[Docket Number: MARAD-2002-11874]

Requested Administrative Waiver of the Coastwise Trade Laws

AGENCY: Maritime Administration, Department of Transportation.

ACTION: Invitation for public comments on a requested administrative waiver of the Coastwise Trade Laws for the vessel TRADEWINDS.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before April 25, 2002.

ADDRESSES: Comments should refer to docket number MARAD-2002-11874. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD's regulations at 46 CFR part 388.

Vessel Proposed for Waiver of the U.S.-build Requirement:

(1) Name of vessel and owner for which waiver is requested.

Name of vessel: Tradewinds. Owner: Jay Hill, Daniel Tingley and Pam Tingley.

(2) Size, capacity and tonnage of vessel. According to the applicant: “Size of vessel: 37.9′, Capacity of Vessel: 14 Net Tons or 32 persons, Tonnage of Vessel: 18 Gross Tons”.

(3) Intended use for vessel, including geographic region of intended operation and trade. According to the applicant: “Intended use for this vessel is three-fold as follows: (1) Local knowledge indoctrination sailings from Kemah, Texas (Clear Lake) to Galveston, Texas (Galveston Island) including day sailing in the Gulf of Mexico coastal region not to exceed 20 miles offshore for hire with not more than four passengers. This indoctrination is designed to allow aspiring sailors who have participated in sail training programs, to move from inland waters to coastal and near-coastal environments with the advantage of experienced Captain and Crew aboard. (2) Sail training for American Sailing Association and US sailing Keelboat Certification Systems in the Gulf of Mexico and neighboring coastal waters including offshore passage making from Galveston Bay to Florida, Maine, Bahamas, and limited areas of Mexico * * * (3) Owners' personal recreational use.”

(4) Date and Place of construction and (if applicable) rebuilding. Date of construction: 1977. Place of construction: Tamsui Taipei Hsien, Republic of China.

(5) A statement on the impact this waiver will have on other commercial passenger vessel operators. According to the applicant: “This waiver will allow an additional Uninspected Passenger Vessel to begin operations in the Galveston Bay area. Due to the targeted customer base, the only impacts we can foresee in the use of this vessel is its addition to the water traffic in the Clear Lake (Kemah Inlet) and Galveston Bay (Houston Ship Channel) waterways, and the addition of a Captained Charter Vessel in the area. After extensive research, we have found that existing operators are of the following types: (1) Inspected vessels that conduct short-duration bay cruises for hire, (2) inspected vessels that conduct guided fishing excursions, dinner cruises, or special event cruises for hire, (3) uninspected vessels that conduct near-shore sail training in the Galveston Bay direct regional area, (4) uninspected charter vessels where customers may hire a Captain to operate the vessel. We feel our niche in the market will not adversely affect any of the above operators.”

(6) A statement on the impact this waiver will have on U.S. shipyards. According to the applicant: “This waiver for a single uninspected vessel with a passenger limit of six passengers will not adversely impact U.S. shipyards in that U.S. shipyards currently build/manufacture large quantities of vessels capable of performing the same intended uses listed in (3) above. No attempt to broker, endorse, sell, or advertise the vessel type and manufacturer in this waiver is intended nor will it be made. We simply enjoy the vessel and wish to use it in our business.”

Dated: March 19, 2002.
By Order of the Maritime Administrator.
Joel C. Richard,
Secretary, Maritime Administration.

[FR Doc. 02-7163 Filed 3-25-02; 8:45 am]

BILLING CODE 4910-81-P